CORPORATION FOR NATIONAL AND COMMUNITY SERVICE

Agency Information Collection Activities; Comment Request; Disaster Response Cooperative Agreement Application

AGENCY: Corporation for National and Community Service.

ACTION: Notice of information collection; request for comment.

SUMMARY: In accordance with the Paperwork Reduction Act of 1995, the Corporation for National and Community Service (operating as AmeriCorps) is proposing to renew an information collection.

DATES: Written comments must be submitted to the individual and office listed in the ADDRESSES section by January 29, 2024.

ADDRESSES: You may submit comments, identified by the title of the information collection activity, by any of the following methods:

(1) Electronically through www.regulations.gov (preferred method).

(2) By mail sent to: AmeriCorps, Attention: Rita Pratte, 250 E Street SW, Washington, DC 20525.

(3) By hand delivery or by courier to the AmeriCorps mailroom at the mail address given in paragraph (2) above, between 9 a.m. and 4 p.m. Eastern Time, Monday through Friday, except Federal holidays.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public, notwithstanding the inclusion of the routine notice.

FOR FURTHER INFORMATION CONTACT: Rita Pratte, 202-815-5719, or by email at rpratte@americorps.gov.

SUPPLEMENTARY INFORMATION:

Title of Collection: Disaster Response Cooperative Agreement Application.

OMB Control Number: 3045-0133.

Type of Review: Renewal.

Respondents/Affected Public: Businesses and Organizations.

Total Estimated Number of Annual Responses: 100.

Total Estimated Number of Annual Burden Hours: 3,960.

Abstract: AmeriCorps seeks renewal of the current information collection pursuant to the Domestic Volunteer Service Act of 1973 (42 U.S.C. 4950 et seq.) and the National and Community Service Act of 1990, (42 U.S.C. 12501 et seq.) The information collected is used to help AmeriCorps more effectively use its deployable resources to meet the needs of communities affected by disaster. An understanding of the participating programs allows AmeriCorps to match the capabilities of the programs to the needs of the communities and will allow better asset mapping and resource typing. Additionally, the information collected will allow AmeriCorps to conduct better outreach to interested programs by providing them with more information about the Agency's disaster procedures, reimbursement requirements, and support services offered. This information collection ensures interested programs meet the appropriate programmatic and fiscal requirements to successfully execute disaster response activities. It also helps AmeriCorps identify and deploy programs effectively and efficiently, matching the capabilities of the programs to the needs of the communities asking for assistance. The forms under the DRCA allow for effective information collection during a disaster event as well as assess the capacity of all DRCA programs throughout the year. Information is collected electronically through completion of the forms and emailed to AmeriCorps. The current application is due to expire on March 31, 2024.

Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. All written comments will be available for public inspection on regulations.gov.

Walter Goodson,
Director, AmeriCorps NCCC.

[FR Doc. 2023-26266 Filed 11-29-23; 8:45 am]

BILLING CODE 6050-28-P